FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 011550-017.

Title: ABC Discussion Agreement.

Parties: King Ocean Services Limited, Inc., and Seaboard Marine Ltd.

Filing Party: Wayne Rohde; Cozen O'Connor; 1200 Nineteenth Street NW, Washington, DC 20036.

Synopsis: The amendment deletes Crowley Caribbean Services LLC as a party to the Agreement.

Agreement No.: 012426-002.

Title: The OCEAN Alliance Agreement.

Parties: American President Lines, Ltd.; APL Co. Pte. Ltd.; CMA CGM S.A.; COSCO Shipping Lines Co., Ltd.; COSCO Shipping Lines (Europe) GmbH; Evergreen Line Joint Service Agreement; Orient Overseas Container Line Limited; and OOCL (Europe) Limited.

Filing Party: Robert Magovern; Cozen O'Connor; 1200 Nineteenth Street NW, Washington, DC 20036.

Synopsis: The amendment revises Article 2 of the Agreement to add COSCO SHIPPING Lines (Europe) GmbH as a party to the Agreement. COSCO SHIPPING Lines (Europe) GmbH and COSCO SHIPPING Lines Co., Ltd. shall be treated as one party for all purposes under the Agreement.

Agreement No.: 011261-011.

Title: ACL/WWL Agreement.

Parties: Atlantic Container Line A.B.; and Wallenius Wilhelmsen Logistics AS.

Filing Party: Wayne Rohde; Cozen O'Connor; 1200 Nineteenth Street NW, Washington, DC 20036.

Synopsis: The amendment revises the amount of space to be chartered, adds the Atlantic Coast of Canada to the geographic scope of the Agreement, adjusts the notice required to terminate the Agreement in certain circumstances, and deletes obsolete material from the Agreement. It also updates the address of Atlantic Container Line.

Agreement No.: 012474-001.

Title: ONE/ELJSA Space Charter Agreement.

Parties: Ocean Network Express Pte. Ltd. and Evergreen Line Joint Service Agreement.

Filing Party: Joshua Stein; Cozen O'Connor; 1200 Nineteenth Street NW, Washington, DC 20036.

Synopsis: The amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Accordingly, the name of the Agreement is changed to the ONE/ELJSA Space Charter Agreement and Ocean Network Express Pte. Ltd. is added as a party.

Agreement No.: 012410-002.

Title: WWL/Hyundai Glovis Space Charter Agreement.

Parties: Wallenius Wilhelmsen Logistics AS and Hyundai Glovis Co. Ltd..

Filing Party: Wayne Rohde; Cozen O'Connor; 1200 Nineteenth Street NW, Washington, DC 20036.

Synopsis: The amendment adds the Pacific Coast of the United States to the scope of the Agreement and revises Article 5.1 to authorize reciprocal (rather than one-way) space chartering.

By Order of the Federal Maritime Commission.
Dated: January 26, 2018.
Rachel E. Dickon,
Assistant Secretary.

[FR Doc. 2018-02478 Filed 2-7-18; 8:45 am]

BILLING CODE 6731-AA-P